DEPARTMENT OF TRANSPORTATION

Great Lakes St. Lawrence Seaway Development Corporation

33 CFR Part 401

RIN 2135-AA51

Seaway Regulations and Rules: Periodic Update, Various Categories

AGENCY: Great Lakes St. Lawrence Seaway Development Corporation, DOT.

ACTION: Final rule.

SUMMARY: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories. The changes update the following sections of the Regulations and Rules: Condition of Vessels; Seaway Navigation; and, Dangerous Cargo. These changes are to clarify existing requirements in the regulations.

DATES: This rule is effective on March 21, 2022.

ADDRESSES: Docket: For access to the docket to read background documents or comments received, go to http://www.Regulations.gov; or in person at the Docket Management Facility; U.S. Department of Transportation, 1200 New Jersey Avenue SE, West Building Ground Floor, Room W12-140, Washington, DC 20590-001, between 9 a.m. and 5 p.m., Monday through Friday, except Federal holidays.

FOR FURTHER INFORMATION CONTACT: Carrie Mann Lavigne, Chief Counsel, Great Lakes St. Lawrence Seaway Development Corporation, 180 Andrews Street, Massena, New York 13662; 315/764-3200.

SUPPLEMENTARY INFORMATION: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories. The changes update the following sections of the Regulations and Rules: Condition of Vessels; Seaway Navigation; and, Dangerous Cargo. These changes are to clarify existing requirements in the regulations.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.Regulations.gov.

The joint regulations will become effective in Canada on March 21, 2022. For consistency, because these are joint regulations under international agreement, and to avoid confusion among users of the Seaway, the GLS finds that there is good cause to make the U.S. version of the amendments effective on the same date.

Regulatory Evaluation

This regulation involves a foreign affairs function of the United States and therefore, Executive Order 12866 does not apply and evaluation under the Department of Transportation's Regulatory Policies and Procedures is not required.

Regulatory Flexibility Act Determination

I certify that this regulation will not have a significant economic impact on a substantial number of small entities. The St. Lawrence Seaway Regulations and Rules primarily relate to commercial users of the Seaway, the vast majority of whom are foreign vessel operators. Therefore, any resulting costs will be borne mostly by foreign vessels.

Environmental Impact

This regulation does not require an environmental impact statement under the National Environmental Policy Act (49 U.S.C. 4321, et seq.) because it is not a major federal action significantly affecting the quality of the human environment.

Federalism

The Corporation has analyzed this rule under the principles and criteria in Executive Order 13132, dated August 4, 1999, and has determined that this proposal does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Great Lakes St. Lawrence Seaway Development Corporation amends 33 CFR part 401 as follows:

PART 401—SEAWAY REGULATIONS AND RULES

Subpart A—Regulations

1. The authority citation for subpart A of part 401 is revised to read as follows:

Authority: 33 U.S.C. 983(a) and 984(a)(4), as amended; 49 CFR 1.101, unless otherwise noted.

2. Revise § 401.8 to read as follows:

§ 401.8 Landing Booms.

(a) Vessels of more than 50 m in overall length shall be equipped with at least one adequate landing boom on each side which are to be in compliance with applicable regulations.

(b) Vessel's crews shall be adequately trained in the use of landing booms for the purpose of landing crew ashore.

(c) Vessels with a freeboard less than 2 meters are not required to be equipped with landing booms.

(d) Vessels not equipped with landing booms shall make arrangements with a “Tie-Up Service” provider for tie-up and let-go at Seaway Approach walls prior to commencing transit of the Seaway.

(e) Vessels shall have onboard for inspection a copy of the test certificate for each landing boom.

§ 401.10 [Amended]

3. Amend § 401.10 by removing and reserving paragraph (c).

4. Amend § 401.20 by revising paragraph (b)(6) to read as follows:

§ 401.20 Automatic Identification System.

* * * * *

(b) * * *

(6) Computation of AIS position reports using differential GPS corrections from Canadian Coast Guard's maritime Differential Global Position System (DGPS) radio beacon services or Satellite Based Augmentation System (SBAS); or

* * * * *

5. Amend § 401.58 by revising paragraph (b) to read as follows:

§ 401.58 Pleasure craft scheduling.

* * * * *

(b) Every pleasure craft seeking to transit Canadian Locks shall first make a reservation on the Seaway website.

6. Amend § 401.73 by adding a heading to paragraph (a) and revising paragraph (b) to read as follows:

§ 401.73 Cleaning tanks—hazardous cargo vessels.

(a) Prohibitions. * * *

* * * * *

(b) Hot Work Permission. Permission is granted under the following conditions:

(1) Copy of ship's “Hot Work Permit” provided to SLSMC at (nrerie@seaway.ca & nrshipinspectors@seaway.ca) before welding commences;

(2) Name of company performing the hot work;

(3) Effective fire watch is maintained;

(4) Welding operations shall temporarily cease during ship meets and lockages;

(5) Welding operations shall cease at the direction of a Traffic Controller; and

(6) All sparks and/or flames to be contained on the ship.

* * * * *

7. Amend § 401.75 by revising paragraph (b) to read as follows:

§ 401.75 Payment of tolls.

* * * * *

(b) Fees, established by agreement between Canada and the United States, and known as the St. Lawrence Seaway Schedule of Tolls, shall be paid by pleasure crafts for the transits of each Canadian lock using the pleasure craft reservation system available on the Seaway website. At U.S. locks, the fee is paid in U.S. funds or the pre-established equivalent in Canadian funds or through payment via Pay.gov on the Seaway website.

* * * * *

Issued at Washington, DC, under authority delegated at 49 CFR part 1.101.
Carrie Lavigne,
Chief Counsel.

[FR Doc. 2022-04218 Filed 3-4-22; 8:45 am]

BILLING CODE 4910-61-P